DEPARTMENT OF JUSTICE

Notice of Lodging of Amended Consent Decree Under the Comprehensive Environmental Response, Compensation and Liability Act

In accordance with 28 CFR 50.7 and Section 122 of the Comprehensive Response, Compensation and Liability Act (“CERCLA”), 42 U.S.C. 9622, the Department of justice gives notice that on November 4, 2005, a proposed revised consent decree in United States v. DeMert & Dougherty, Inc., No. 2:02CV434 (N.D. Ind.), was lodged with the United States District Court for the Northern District of Indiana.

The United States' complaint seeks the recovery, pursuant to CERCLA Section 107, 42 U.S.C. 9607, of unreimbursed costs that have been incurred by the United States at the American Chemical Service, Inc. Superfund Site in Griffith, Lake County, Indiana (“ACS Site”), as well as well as the implementation, pursuant to CERCLA Section 106, 42 U.S.C. 9606, of the United States Environmental Protection Agency's selected remedy for the ACS Site.

On January 11, 1996, DeMert & Dougherty, Inc., filed for bankruptcy under Chapter 11 of the bankruptcy Code in the U.S. District Court for the Northern District of Illinois. (In re: DeMert & Dougherty, Inc. (Bankr. N.D. I11. (Eastern Div. No. 96 B 0851))). The case was converted to a Chapter 7 Bankruptcy on June 27, 1996. In that case, the United States filed a proof of claim pertaining to the costs that it incurred at the ACS Site.

A consent decree lodged in 2002 would have resolved DeMert's liability as to the site and the United States' claim in DeMert's bankruptcy through the allowance of an allowed general unsecured claim of $2,225,000.¹

¹ DeMert filed for bankruptcy under Chapter 11 of the Bankruptcy Code in the U.S. District Court for the Northern District of Illinois in 1996, and the case was later converted to a Chapter 7 Bankruptcy. (In re: DeMert & Dougherty, Inc. (Bankr. N.D. I11. (Eastern Div. No. 96B90851)). Both the United States and the ACS Group filed proofs of claim.

Public Comments received by the Department of Justice from the group performing the remedy at the ACS Site (“ACS Group”) necessitated the withdrawal of the first consent decree and additional negotiations, which resulted in the proposed revised consent decree. The proposed revised decree would resolve DeMert's liability at the ACS Site under CERCLA and resolve the competing claims of the United States and the ACS Group in DeMert's bankruptcy action, as well as the claims that the ACS Group and DeMert may have against each other. In particular: (1) The ACS Group's claim in DeMert's bankruptcy would be allowed as a general unsecured claim for $2,225,000, while the United States bankruptcy claim would be deemed to have been withdrawn; one-half of the total amount paid to the ACS Group in the bankruptcy would be deposited in an account within the Superfund and be available to reimburse the ACS Group's Operation and Maintenance costs at the Site; the remainder of the amount paid through the bankruptcy would be deposited in a different account within the Superfund for use by EPA in conducting or financing response actions connected with the ACS Site, or for use at other Sites; (2) the Trustee will assist the ACS Group in litigation resulting from actions taken by the ACS Group to obtain coverage under DeMert's insurance policies; (3) DeMert assigns to the ACS Group DeMert's rights to receive payments under DeMert's insurance policies for the Site, and the Trustee will assist the ACS Group in litigation resulting from the ACS Group's attempts to obtain coverage under DeMert's insurance policies. The ACS Group would reimburse the Trustee for the fees and expenses incurred in assisting the ACS Group in such litigation.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Dougherty, Inc., D.J. Ref. 90-11-3-1094.

The Consent Decree may be examined at the Office of the United States Attorney, Northern District of Indiana, 5400 Federal Plaza, Suite 1500, Hammond, Indiana 44320 (contact Assistant United States Attorney Wayne Ault, 219-937-5500), and at U.S. EPA Region 5, 77 W. Jackson Blvd., Chicago, Illinois (contact Assistant Regional Counsel Michael McClary (312-886-7163)). During the public comment period, the proposed Amended Consent Decree may also be examined on the following Department of Justice Web site, http://www.usdoj.gov/enrd/open.html. A copy of the Consent Decree may also be obtained by mail from the Consent Decree Library, P.O. Box 7611, U.S. Department of Justice, Washington, DC 20044-7611, or by faxing a request to Tonia Fleetwood, fax no. (202) 616-6583, phone confirmation number (202) 514-1547. In requesting a copy, please refer to the referenced case and enclose a check in the amount of $18.00 (25 cents per page reproduction costs) payable to the U.S. Treasury.

William Brighton,
Assistant Chief, Environmental, Enforcement Section, Environment and Natural Resources Division.

[FR Doc. 05-23508 Filed 11-30-05 8:45 am]

BILLING CODE 4410-15-M